DEPARTMENT OF COMMERCE

National Institute of Standards and Technology

[Docket Number: 211116-0234]

Study To Advance a More Productive Tech Economy

AGENCY: National Institute of Standards and Technology (NIST), Commerce.

ACTION: Notice; extension of comment period.

SUMMARY: The National Institute of Standards and Technology (NIST) is extending the period for submitting comments relating to the Study to Advance a More Productive Tech Economy to February 15, 2022. In a Request for Information (RFI) that published in the Federal Register on November 22, 2021. NIST requested information about the public and private sector marketplace trends, supply chain risks, legislative, policy, and the future investment needs of eight emerging technology areas, including: Artificial Intelligence, Internet of Things in Manufacturing, Quantum Computing, Blockchain Technology, New and Advanced Materials, Unmanned Delivery Services, Internet of Things, and Three-dimensional Printing. This RFI is seeking comments to help identify, understand, refine, and guide the development of the current and future state of technology in the eight emerging technology areas named above. The information will inform a final report that will be submitted to Congress. NIST is extending the comment period announced in the November 22, 2021 RFI from January 31, 2022 to February 15, 2022 in response to stakeholder requests for more time to respond to this important issue.

DATES: Comments in response to this notice must be received by 5:00 p.m. Eastern time on February 15, 2022. Submissions received after that date may not be considered. Those who have already submitted comments need not resubmit.

Comments may be submitted by any of the following methods:

Electronic submission: Submit electronic public comments via the Federal e-Rulemaking Portal.

1. Go to www.regulations.gov and enter NIST-2021-0007 in the search field,

2. Click the “Comment Now!” icon, complete the required fields, and

3. Enter or attach your comments.

Electronic submissions may also be sent as an attachment to acastudy@nist.gov and may be in any of the following unlocked formats: Word or PDF. Please cite “COMPETE ACT” and the topic area in all correspondence. If the input is provided for more than one topic area, please submit separate documents for each topic area. Comments received by the deadline may be posted at www.regulations.gov. Comments containing references, studies, research, and other empirical data that are not widely published should include copies of the referenced materials. All submissions, including attachments and other supporting materials, may become part of the public record and may be subject to public disclosure. NIST reserves the right to publish relevant comments publicly, unedited and in their entirety. Personal information, such as account numbers or Social Security numbers, or names of other individuals, should not be included. Do not submit confidential business information, or otherwise sensitive or protected information. Comments that contain profanity, vulgarity, threats, or other inappropriate language or content will not be considered.

FOR FURTHER INFORMATION CONTACT: For questions about this RFI contact: Kevin Kimball, U.S. Department of Commerce, kevin.kimball@nist.gov, (301) 975-3070.

Please direct media inquiries to NIST's Public Affairs Office at (301) 975-2762 or Jennifer.Huergo@nist.gov.

SUPPLEMENTARY INFORMATION: On November 22, 2021, NIST published a Request for Information (RFI) in the Federal Register (86 FR 66287) on a Study to Advance a More Productive Tech Economy. Interested parties have requested an extension to the comment submission deadline and in response; NIST extends the public comment period to February 15, 2022.

Alicia Chambers,
NIST Executive Secretariat.

[FR Doc. 2022-01528 Filed 1-27-22; 8:45 am]

BILLING CODE 3510-13-P